DEPARTMENT OF LABOR

Wage and Hour Division

Agency Information Collection Activities; Comment Request; Paid Sick Leave for Federal Contractors

AGENCY: Wage and Hour Division, Department of Labor.

ACTION: Notice.

SUMMARY: The Department of Labor (Department) is soliciting comments concerning a proposed extension of the information collection request (ICR) titled “Paid Sick Leave for Federal Contractors.” This comment request is part of continuing Departmental efforts to reduce paperwork and respondent burden in accordance with the Paperwork Reduction Act of 1995 (PRA). The Department proposes to extend the approval of this existing information collection without change to existing requirements.

This program helps to ensure that requested data can be provided in the desired format, reporting burden (time and financial resources) is minimized, collection instruments are clearly understood, and the impact of collection requirements on respondents can be properly assessed. A copy of the proposed information request can be obtained by contacting the office listed below in the FOR FURTHER INFORMATION CONTACT section of this Notice.

DATES: Written comments must be submitted to the office listed in the ADDRESSES section below on or before October 6, 2025.

ADDRESSES: You may submit comments identified by Control Number 1235-0029, by either one of the following methods:

• Email: WHDPRAComments@dol.gov;

• Mail, Hand Delivery, Courier: Division of Regulations, Legislation, and Interpretation, Wage and Hour, U.S. Department of Labor, Room S-3502, 200 Constitution Avenue NW, Washington, DC 20210.

Instructions: Please submit one copy of your comments by only one method. All submissions received must include the agency name and Control Number identified above for this information collection. Comments, including any personal information provided, become a matter of public record. They will also be summarized and/or included in the request for Office of Management and Budget (OMB) approval of the information collection request.

FOR FURTHER INFORMATION CONTACT: Daniel Navarrete, Division of Regulations, Legislation, and Interpretation, Wage and Hour Division, U.S. Department of Labor, Room S-3502, 200 Constitution Avenue NW, Washington, DC 20210; telephone: (202) 693-0406 (this is not a toll-free number). Alternative formats are available upon request by calling 1-866-487-9243. If you are deaf, hard of hearing, or have a speech disability, please dial 7-1-1 to access telecommunications relay services.

SUPPLEMENTARY INFORMATION:

I. Background

On September 7, 2015, President Barack Obama signed Executive Order 13706, “Establishing Paid Sick Leave for Federal Contractors.” 80 FR 54697. The Executive Order established paid sick leave for Federal Contractors. Executive Order 13706 stated that the Federal Government's procurement interests in efficiency and cost savings are promoted when the Federal Government contracts with sources that ensure workers on those contracts can earn paid sick leave. The Executive Order therefore required parties who contract with the Federal Government to provide their employees with up to 7 days of paid sick time annually, including paid time allowing for family care. The Executive Order directed the Secretary to issue regulations by September 30, 2016, to the extent permitted by law and consistent with the requirements of 40 U.S.C. 121, to implement the Order's requirements. The Final Rule established standards and procedures for implementing and enforcing the paid sick leave requirements of Executive Order 13706. 81 FR 67598.

Among other requirements, the regulations at 29 CFR 13 require employers subject to the Order to make and maintain records for notifications to employees on leave accrual and requests to use paid sick leave, dates and amounts of paid sick leave used, written responses to requests to use paid sick leave, records relating to certification and documentation where an employer requires this from an employee using at least 3 consecutive days of leave, tracking of or calculations related to an employee's accrual or use of paid sick leave, the relevant covered contract, pay and benefits provided to an employee using leave, and any financial payment for unused sick leave made to an employee on separation from employment.

This information collection is subject to the PRA. A Federal agency generally cannot conduct or sponsor a collection of information, and the public is generally not required to respond to an information collection, unless the OMB under the PRA approves it and displays a currently valid OMB Control Number. In addition, notwithstanding any other provisions of law, no person shall generally be subject to penalty for failing to comply with a collection of information that does not display a valid Control Number. See 5 CFR 1320.5(a) and 1320.6. The Department obtains OMB approval for this information collection under Control Number 1235-0029.

OMB authorization for an ICR cannot be for more than 3 years without renewal, and the current approval for this collection will expire on December 31, 2025. The Department seeks to extend PRA authorization for this information collection for 3 more years, without any change to existing requirements.

Interested parties are encouraged to send comments to the Department at the address shown in the ADDRESSES section within 60 days of publication of this notice in the Federal Register. To help ensure appropriate consideration, comments should mention OMB Control Number 1235-0029.

II. Review Focus

The Department of Labor is particularly interested in comments which:

• Evaluate whether the proposed collection of information is necessary for the proper performance of the functions of the agency, including whether the information will have practical utility;

• Enhance the quality, utility, and clarity of the information to be collected;

• Evaluate the accuracy of the agency's estimate of the burden of the proposed collection of information, including the validity of the methodology and assumptions used;

• Minimize the burden of the collection of information on those who are to respond, including the use of appropriate automated, electronic, mechanical, or other technological collection techniques or other forms of information technology, e.g., permitting electronic submissions of responses.

III. Current Actions

The Department of Labor seeks approval for an extension of this information collection to ensure effective administration of paid sick leave programs for federal contractors.

Type of Review: Extension.

Agency: Wage and Hour Division.

Title: Paid Sick Leave for Federal Contractors.

OMB Control Number: 1235-0029.

Affected Public: Private Sector: Businesses or other for-profits; not-for-profit institutions.

Total Respondents: 1,321,800.

Total Annual Responses: 39,049,277.

Estimated Total Burden Hours: 769,122.

Estimated Time per Response: Varies with type of request.

Frequency: On occasion.

Total Burden Costs (Operations/Maintenance): $1,629,180.13.

Dated: August 4, 2025.
Daniel Navarrete,
Director, Division of Regulations, Legislation, and Interpretation.

[FR Doc. 2025-15023 Filed 8-6-25; 8:45 am]

BILLING CODE 4510-27-P